DEPARTMENT OF AGRICULTURE

Rural Business Service

[Docket No. RBS-24-BUSINESS-0007]

Notice of Request for Revision of a Currently Approved Information Collection

AGENCY: Rural Business-Cooperative Service, USDA.

ACTION: Notice; request for comments.

SUMMARY: In accordance with the Paperwork Reduction Act of 1995, the Rural Business-Cooperative Service's (RBCS or Agency), announces its intention to request Office of Management and Budget's (OMB) approval for a revision of a currently approved information collection in support of the Advanced Biofuel Payment Program.

DATES: Comments on this notice must be received by August 6, 2024.

ADDRESSES: Comments may be submitted electronically by the Federal eRulemaking Portal, www.regulations.gov. Additional information about Rural Development (RD) and its programs is available at www.rd.usda.gov.

FOR FURTHER INFORMATION CONTACT: Pamela Bennett, Rural Development Innovation Center—Regulations Management Division, USDA, 1400 Independence Avenue SW, Stop 1522, South Building, Washington, DC 20250-1522. Telephone: (202) 720-9639. Email: pamela.bennett@usda.gov.

SUPPLEMENTARY INFORMATION: The OMB regulation (5 CFR part 1320) implementing provisions of the Paperwork Reduction Act of 1995 (Pub. L. 104-13) requires that interested members of the public and affected agencies have an opportunity to comment on information collection and recordkeeping activities (see 5 CFR 1320.8(d)). This notice identifies an information collection that the Agency is submitting to OMB for a revision of an existing collection.

Comments are invited on: (a) Whether the proposed collection of information is necessary for the proper performance of the functions of the Agency, including whether the information will have practical utility; (b) The accuracy of the Agency's estimate of the burden of the proposed collection of information including the validity of the methodology and assumptions used; (c) Ways to enhance the quality, utility and clarity of the information to be collected; and (d) Ways to minimize the burden of the collection of information on those who are to respond, including through the use of appropriate automated, electronic, mechanical, or other technological collection techniques or other forms of information technology.

Comments may be sent by the Federal eRulemaking Portal: Go to www.regulations.gov and, in the “Search for dockets and documents on agency actions” box, type in the Docket No. located at the beginning of this notice and click the “Search” button. From the search results, click on or locate the document title and select the “Comment” button. Before inputting comments, commenters may review the “Commenter's Checklist” (optional). Insert comments under the “Comment” title, click “Browse” to attach files (if available), input email address and select “Submit Comment.” Information on using Regulations.gov, including instructions for accessing documents, submitting comments, and viewing the docket after the close of the comment period, is available through the site's “FAQ” link. All comments will be available for public inspection online at www.regulations.gov.

A Federal agency may not conduct or sponsor, and a person is not required to respond to, nor shall a person be subject to a penalty for failure to comply with a collection of information subject to the requirements of the Paperwork Reduction Act unless that collection of information displays a currently valid OMB Control Number. Data furnished by the applicants will be used to determine eligibility for program benefits. Furnishing the data is voluntary; however, failure to provide data could result in program benefits being withheld or denied.

Title: Advanced Biofuel Payment Program.

OMB Number: 0570-0063.

Type of Request: Revision of a currently approved information collection.

Abstract: The Advanced Biofuel Payment Program was authorized under section 9005 of title IX of the Food, Conservation, and Energy Act of 2008 (2008 Farm Bill). It authorizes the Agency to enter into contracts to make payments to eligible entities to support and ensure an expanding production of advanced biofuels. Entities eligible to receive payments under the Program are producers of advanced biofuels that meet all of the requirements of the Program.

Estimate of Burden: Public reporting burden for this collection of information is estimated to average 1.294 hours per response.

Respondents: The respondents are the advanced biofuel producers and Agency staff who process applications and quarterly payment requests.

Estimated Number of Respondents: 92 advanced biofuel producers.

Estimated Number of Responses per Respondent: 8.34.

Estimate Number of Responses: 767

Estimated Total Annual Burden on Respondents: 993 hours.

Copies of this information collection can be obtained from Pamela Bennett, RD Innovation Center—Regulations Management Division, at pamela.bennett@usda.gov.

All responses to this notice will be summarized and included in the request for OMB approval. All comments will become a matter of public record.

Kathryn E. Dirksen Londrigan,
Administrator, Rural Business-Cooperative Service.

[FR Doc. 2024-12492 Filed 6-6-24; 8:45 am]

BILLING CODE 3410-XY-P